DEPARTMENT OF TRANSPORTATION

Office of the Secretary

14 CFR Chs. I-III

23 CFR Chs. I-III

33 CFR Chs. I and IV

46 CFR Chs. I-III

48 CFR Ch. 12

49 CFR Subtitle A, Chs. I-VI and Chs. X-XII

[OST Docket 99-5129]

Department Regulatory Agenda; Semiannual Summary

AGENCY: Office of the Secretary, DOT.

ACTION: Semiannual regulatory agenda.

SUMMARY: The regulatory agenda is a semiannual summary of all current and projected rulemakings, reviews of existing regulations, and completed actions of the Department. The agenda provides the public with information about the Department of Transportation's regulatory activity. It is expected that this information will enable the public to be more aware of and allow it to more effectively participate in the Department's regulatory activity. The public is also invited to submit comments on any aspect of this agenda.

FOR FURTHER INFORMATION CONTACT:

General

You should direct all comments and inquiries on the agenda in general to Neil R. Eisner, Assistant General Counsel for Regulation and Enforcement, Department of Transportation, 1200 New Jersey Avenue, SE., Washington, DC 20590; (202) 366-4723.

Specific

You should direct all comments and inquiries on particular items in the agenda to the individual listed for the regulation or the general rulemaking contact person for the operating administration in Appendix B. Individuals who use a telecommunications device for the deaf (TDD) may call (202) 755-7687.

Table of Contents

Supplementary Information:

Background

Significant/Priority Rulemakings

Explanation of Information on the Agenda

Request for Comments

Purpose

Appendix A—Instructions for Obtaining Copies of Regulatory Documents

Appendix B—General Rulemaking Contact Persons

Appendix C—Public Rulemaking Dockets

Appendix D—Review Plans for Section 610 and Other Requirements Agenda

SUPPLEMENTARY INFORMATION:

Background

Improvement of our regulations is a prime goal of the Department of Transportation (Department or DOT). Our regulations should be clear, simple, timely, fair, reasonable, and necessary. They should not be issued without appropriate involvement of the public; once issued, they should be periodically reviewed and revised, as needed, to assure that they continue to meet the needs for which they originally were designed. To view additional information about the Department of Transportation's regulatory activities online, go to http://regs.dot.gov. Among other things, this website provides a report, updated monthly, on the status of the DOT significant rulemakings listed in the semi-annual Agenda.

To help the Department achieve these goals and in accordance with Executive Order (EO) 12866, “Regulatory Planning and Review,” (58 FR 51735; Oct 4, 1993) and the Department's Regulatory Policies and Procedures (44 FR 11034; Feb 26, 1979), the Department prepares a semiannual regulatory agenda. It summarizes all current and projected rulemaking, reviews of existing regulations, and completed actions of the Department. These are matters on which action has begun or is projected during the succeeding 12 months or such longer period as may be anticipated or for which action has been completed since the last agenda.

The agendas are based on reports submitted by the offices initiating the rulemaking and are reviewed by the Department Regulations Council. The Department's last agenda was published in the Federal Register on December 20, 2010 (75 FR 79812). The next one is scheduled for publication in the Federal Register in fall 2011.

The Internet is the basic means for disseminating the Unified Agenda. The complete Unified Agenda is available online at www.reginfo.gov, in a format that offers users a greatly enhanced ability to obtain information from the Agenda database.

Because publication in the Federal Register is mandated for the regulatory flexibility agendas required by the Regulatory Flexibility Act (5 U.S.C. 602), DOT's printed agenda entries include only:

1. The Agency's agenda preamble;

2. Rules that are in the Agency's regulatory flexibility agenda, in accordance with the Regulatory Flexibility Act, because they are likely to have a significant economic impact on a substantial number of small entities; and

3. Any rules that the Agency has identified for periodic review under section 610 of the Regulatory Flexibility Act.

Printing of these entries is limited to fields that contain information required by the Regulatory Flexibility Act's Agenda requirements. These elements are: Sequence Number; Title; Section 610 Review, if applicable; Legal Authority; Abstract; Timetable; Regulatory Flexibility Analysis Required; Agency Contact; and Regulation Identifier Number (RIN). Additional information (for detailed list see section heading “Explanation of Information on the Agenda”) on these entries is available in the Unified Agenda published on the Internet.

Significant/Priority Rulemakings

The agenda covers all rules and regulations of the Department. We have classified rules as a DOT agency priority in the agenda if they are, essential, very costly, controversial, or of substantial public interest under our Regulatory Policies and Procedures. All DOT agency priority rulemaking documents are subject to review by the Secretary of Transportation. If the Office of Management and Budget (OMB) decides a rule is subject to its review under Executive Order 12866, we have classified it as significant in the agenda.

Explanation of Information on the Agenda

An Office of Management and Budget memorandum, dated January 21, 2011, requires the format for this agenda.

First, the agenda is divided by initiating offices. Then, the agenda is divided into five categories: (1) Prerule stage, (2) proposed rule stage, (3) final rule stage, (4) long-term actions, and (5) completed actions. For each entry, the agenda provides the following information: (1) its “significance”; (2) a short, descriptive title; (3) its legal basis; (4) the related regulatory citation in the Code of Federal Regulations; (5) any legal deadline and, if so, for what action (e.g., NPRM, final rule); (6) an abstract; (7) a timetable, including the earliest expected date for a decision on whether to take the action; (8) whether the rulemaking will affect small entities and/or levels of government and, if so, which categories; (9) whether a Regulatory Flexibility Act (RFA) analysis is required (for rules that would have a significant economic impact on a substantial number of small entities); (10) a listing of any analyses an office will prepare or has prepared for the action (with minor exceptions, DOT requires an economic analysis for all its rulemakings); (11) an agency contact office or official who can provide further information; (12) a Regulation Identifier Number (RIN) assigned to identify an individual rulemaking in the agenda and facilitate tracing further action on the issue; (13) whether the action is subject to the Unfunded Mandates Reform Act; (14) whether the action is subject to the Energy Act; and (15) whether the action is major under the congressional review provisions of the Small Business Regulatory Enforcement Fairness Act. If there is information that does not fit in the other categories, it will be included under a separate heading entitled “Additional Information.”

For nonsignificant regulations issued routinely and frequently as a part of an established body of technical requirements (such as the Federal Aviation Administration's Airspace Rules), to keep those requirements operationally current, we only include the general category of the regulations, the identity of a contact office or official, and an indication of the expected number of regulations; we do not list individual regulations.

In the “Timetable” column, we use abbreviations to indicate the particular documents being considered. ANPRM stands for Advance Notice of Proposed Rulemaking, SNPRM for Supplemental Notice of Proposed Rulemaking, and NPRM for Notice of Proposed Rulemaking. Listing a future date in this column does not mean we have made a decision to issue a document; it is the earliest date on which we expect to make a decision on whether to issue it. In addition, these dates are based on current schedules. Information received subsequent to the issuance of this agenda could result in a decision not to take regulatory action or in changes to proposed publication dates. For example, the need for further evaluation could result in a later publication date; evidence of a greater need for the regulation could result in an earlier publication date.

Finally, a dot (•) preceding an entry indicates that the entry appears in the agenda for the first time.

Request for Comments

General

Our agenda is intended primarily for the use of the public. Since its inception, we have made modifications and refinements that we believe provide the public with more helpful information, as well as make the agenda easier to use. We would like you, the public, to make suggestions or comments on how the agenda could be further improved.

Reviews

We also seek your suggestions on which of our existing regulations you believe need to be reviewed to determine whether they should be revised or revoked. We particularly draw your attention to the Department's review plan in Appendix D.

Regulatory Flexibility Act

The Department is especially interested in obtaining information on requirements that have a “significant economic impact on a substantial number of small entities” and, therefore, must be reviewed under the Regulatory Flexibility Act. If you have any suggested regulations, please submit them to us, along with your explanation of why they should be reviewed.

In accordance with the Regulatory Flexibility Act, comments are specifically invited on regulations that we have targeted for review under section 610 of the Act. The phrase (Section 610 Review) appears at the end of the title for these reviews. Please see Appendix D for the Department's section 610 review plans.

Consultation With State, Local, and Tribal Governments

Executive orders 13132 and 13175 require us to develop an accountable process to ensure “meaningful and timely input” by State, local, and tribal officials in the development of regulatory policies that have federalism or tribal implications. These policies are defined in the Executive orders to include regulations that have “substantial direct effects” on States or Indian tribes, on the relationship between the Federal Government and them, or on the distribution of power and responsibilities between the Federal Government and various levels of government or Indian tribes. Therefore, we encourage State and local governments or Indian tribes to provide us with information about how the Department's rulemakings impact them.

Purpose

The Department is publishing this regulatory agenda in the Federal Register to share with interested members of the public the Department's preliminary expectations regarding its future regulatory actions. This should enable the public to be more aware of the Department's regulatory activity and should result in more effective public participation. This publication in the Federal Register does not impose any binding obligation on the Department or any of the offices within the Department with regard to any specific item on the agenda. Regulatory action, in addition to the items listed, is not precluded.

Dated: March 28, 2011.
Ray LaHood,
Secretary of Transportation.

Appendix A—Instructions for Obtaining Copies of Regulatory Documents

To obtain a copy of a specific regulatory document in the agenda, you should communicate directly with the contact person listed with the regulation at the address below. We note that most, if not all, such documents, including the semiannual agenda, are available through the Internet at http://www.regulations.gov. See Appendix C for more information.

(Name of contact person), (Name of the DOT agency), 1200 New Jersey Avenue SE., Washington, DC 20590. (For the Federal Aviation Administration, substitute the following address: Office of Rulemaking, ARM-1, 800 Independence Avenue SW., Washington, DC 20591).

Appendix B—General Rulemaking Contact Persons

The following is a list of persons who can be contacted within the Department for general information concerning the rulemaking process within the various operating administrations.

FAA—Rebecca MacPherson, Office of Chief Counsel, Regulations and Enforcement Division, 800 Independence Avenue SW., Room 915A, Washington, DC 20591; telephone (202) 267-3073.

FHWA—Jennifer Outhouse, Office of Chief Counsel, 1200 New Jersey Avenue SE., Washington, DC 20590; telephone (202) 366-0761.

FMCSA—Steven J. LaFreniere, Regulatory Ombudsman, 1200 New Jersey Avenue SE., Washington, DC 20590; telephone (202) 366-0596.

NHTSA—Steve Wood, Office of Chief Counsel, 1200 New Jersey Avenue SE., Washington, DC 20590; telephone (202) 366-2992.

FRA—Kathryn Shelton, Office of Chief Counsel, 1200 New Jersey Avenue SE., Room W31-214, Washington, DC 20590; telephone (202) 493-6063.

FTA—Linda Ford, Office of Chief Counsel, 1200 New Jersey Avenue SE., Room E56-202, Washington, DC 20590; telephone (202) 366-4063.

SLSDC—Carrie Mann Lavigne, Chief Counsel, 1200 New Jersey Avenue SE., Washington, DC 20590; telephone (202) 366-0091.

PHMSA—Patricia Burke, Office of Chief Counsel, 1200 New Jersey Avenue SE., Washington, DC 20590; telephone (202) 366-4400.

MARAD—Christine Gurland, Office of Chief Counsel, Maritime Administration, 1200 New Jersey Avenue SE., Washington, DC 20590; telephone (202) 366-5157.

RITA—Robert Monniere, Office of Chief Counsel, 1200 New Jersey Avenue SE., Washington, DC 20590; telephone (202) 366-5498.

OST—Neil Eisner, Office of Regulation and Enforcement, 1200 New Jersey Avenue SE., Washington, DC 20590; telephone (202) 366-4723.

Appendix C—Public Rulemaking Dockets

All comments via the Internet are submitted through the Federal Docket Management System (FDMS) at the following address: http://www.regulations.gov. The FDMS allows the public to search, view, download, and comment on all Federal agency rulemaking documents in one central online system. The above referenced Internet address also allows the public to sign up to receive notification when certain documents are placed in the dockets.

The public also may review regulatory dockets at, or deliver comments on proposed rulemakings to, the Dockets Office at 1200 New Jersey Avenue SE., Room W12-140, Washington, DC 20590, 1-800-647-5527. Working Hours: 9-5.

Appendix D—Review Plans for Section 610 and Other Requirements

Part I—The Plan

General

The Department of Transportation has long recognized the importance of regularly reviewing its existing regulations to determine whether they need to be revised or revoked. Our 1979 Regulatory Policies and Procedures require such reviews. We also have responsibilities under Executive Order 12866, “Regulatory Planning and Review,” and section 610 of the Regulatory Flexibility Act to conduct such reviews. This includes the use of plain language techniques in new rules and considering its use in existing rules when we have the opportunity and resources to permit its use. We are committed to continuing our reviews of existing rules and, if needed, will initiate rulemaking actions based on these reviews.

As part of its implementation of Executive Order 13563, “Improving Regulation and Regulatory Review,” issued by the President on January 18, 2011, the Department has added another element to its review plans. On February 16, 2011, we published a notice seeking public comments and information from interested parties to assist DOT in improving its methods for reviewing existing rules to determine whether any such regulations should be modified, streamlined, expanded, or repealed and helping us identify any specific, existing rules that may be outmoded, ineffective, insufficient, or excessively burdensome. These new actions are in addition to the other steps described in this Appendix.

Section 610 Review Plan

Section 610 requires that we conduct reviews of rules that (1): Have been published within the last 10 years and, (2) have a “significant economic impact on a substantial number of small entities” (SEIOSNOSE). It also requires that we publish in the Federal Register each year a list of any such rules that we will review during the next year. The Office of the Secretary and each of the Department's Operating Administrations have a 10-year review plan. These reviews comply with section 610 of the Regulatory Flexibility Act.

Other Review Plan(s)

All elements of the Department, except for the Federal Aviation Administration (FAA), have also elected to use this 10-year plan process to comply with the review requirements of the Department's Regulatory Policies and Procedures and Executive Order 12866.

Changes to the Review Plan

Some reviews may be conducted earlier than scheduled. For example, to the extent resources permit, the plain language reviews will be conducted more quickly. Other events, such as accidents, may result in the need to conduct earlier reviews of some rules. Other factors may also result in the need to make changes; for example, we may make changes in response to public comment on this plan or in response to a Presidentially mandated review. If there is any change to the review plan, we will note the change in the following agenda. For any section 610 review, we will provide the required notice prior to the review.

Part II—The Review Process

The Analysis

Generally, the agencies have divided their rules into 10 different groups and plan to analyze one group each year. For purposes of these reviews, a year will coincide with the fall-to-fall schedule for publication of the agenda. Thus, Year 1 (2008) begins in the fall of 2008 and ends in the fall of 2009; Year 2 (2009) begins in the fall of 2009 and ends in the fall of 2010, and so on. We request public comment on the timing of the reviews. For example, is there a reason for scheduling an analysis and review for a particular rule earlier than we have? Any comments concerning the plan or particular analyses should be submitted to the regulatory contacts listed in Appendix B, General Rulemaking Contact Persons.

Section 610 Review

The Agency will analyze each of the rules in a given year's group to determine whether any rule has a SEIOSNOSE and, thus, requires review in accordance with section 610 of the Regulatory Flexibility Act. The level of analysis will, of course, depend on the nature of the rule and its applicability. Publication of agencies' section 610 analyses listed each fall in this agenda provides the public with notice and an opportunity to comment consistent with the requirements of the Regulatory Flexibility Act. We request that public comments be submitted to us early in the analysis year concerning the small entity impact of the rules to help us in making our determinations.

In each fall agenda, the Agency will publish the results of the analyses it has completed during the previous year. For rules that had a negative finding on SEIOSNOSE, we will give a short explanation (e.g., “these rules only establish petition processes that have no cost impact” or “these rules do not apply to any small entities”). For parts, subparts, or other discrete sections of rules that do have a SEIOSNOSE, we will announce that we will be conducting a formal section 610 review during the following 12 months. At this stage, we will add an entry to the Agenda in the prerulemaking section describing the review in more detail. We also will seek public comment on how best to lessen the impact of these rules and provide a name or docket to which public comments can be submitted. In some cases, the section 610 review may be part of another unrelated review of the rule. In such a case, we plan to clearly indicate which parts of the review are being conducted under section 610.

Other Reviews

The Agency will also examine the specified rules to determine whether any other reasons exist for revising or revoking the rule or for rewriting the rule in plain language. In each fall agenda, the Agency will also publish information on the results of the examinations completed during the previous year.

The FAA, in addition to reviewing its rules in accordance with the Section 610 Review Plan, has established a tri-annual process to comply with the review requirements of the Department's Regulatory Policies and Procedures, Executive Order 12866, and Plain Language Review Plan. The FAA's latest review notice was published November 15, 2007 (72 FR 64170). In that notice, the FAA requested comments from the public to identify those regulations currently in effect that it should amend, remove, or simplify. The FAA also requested the public to provide any specific suggestions where rules could be developed as performance-based rather than prescriptive, and any specific plain language that might be used, and provide suggested language on how those rules should be written. The FAA will review the issues addressed by the commenters against its regulatory agenda and rulemaking program efforts and adjust its regulatory priorities consistent with its statutory responsibilities. At the end of this process, the FAA will publish a summary and general disposition of comments and indicate, where appropriate, how it will adjust its regulatory priorities.

Part III—List of Pending Section 610 Reviews

The Agenda identifies the pending DOT Section 610 Reviews by inserting “(Section 610 Review),” after the title for the specific entry. For further information on the pending reviews, see the agenda entries at www.reginfo.gov. For example, to obtain a list of all entries that are Section 610 Reviews under the Regulatory Flexibility Act, a user would select the desired responses on the search screen (by selecting “advanced search”) and, in effect, generate the desired “index” of reviews.

Office of the Secretary
Section 610 and Other Reviews
Year | Regulations to be reviewed | Analysis year | Review year
1 | 49 CFR parts 91 through 99 and 14 CFR parts 200 through 212 | 2008 | 2009
2 | 48 CFR parts 1201 through 1253 and new parts and subparts | 2009 | 2010
3 | 14 CFR parts 213 through 232 | 2010 | 2011
4 | 14 CFR parts 234 through 254 | 2011 | 2012
5 | 14 CFR parts 255 through 298 and 49 CFR part 40 | 2012 | 2013
6 | 14 CFR parts 300 through 373 | 2013 | 2014
7 | 14 CFR parts 374 through 398 | 2014 | 2015
8 | 14 CFR part 399 and 49 CFR parts 1 through 11 | 2015 | 2016
9 | 49 CFR parts 17 through 28 | 2016 | 2017
10 | 49 CFR parts 29 through 39 and parts 41 through 89 | 2017 | 2018

Year 1 (fall 2008) List of rules analyzed and a summary of results

49 CFR part 93—Aircraft Allocation

• Section 610: There is no SEIOSNOSE.

• General: The agency will propose revising this regulation to reflect a transfer of the functions from the Office of Emergency Transportation (OET) to the Office of Intelligence, Security, and Response (S-60). OET was absorbed into S-60 and no longer exists as a separate office. The proposed changes will not cause an economic impact.

Year 1 (fall 2008) List of rules with ongoing analysis

49 CFR part 91—International Air Transportation Fair Competitive Practices

49 CFR part 92—Recovering Debts to the United States by Salary Offset

49 CFR part 95—Advisory Committees

49 CFR part 98—Enforcement of Restrictions on Post-Employment Activities

49 CFR part 99—Employee Responsibilities and Conduct

14 CFR part 200—Definitions and Instructions

14 CFR part 201—Air Carrier Authority Under Subtitle VII of Title 49 of the United States Code [Amended]

14 CFR part 203—Waiver of Warsaw Convention Liability Limits and Defenses

14 CFR part 204—Data to Support Fitness Determinations

14 CFR part 205—Aircraft Accident Liability Insurance

14 CFR part 206—Certificates of Public Convenience and Necessity: Special Authorizations and Exemptions

14 CFR part 207—Charter Trips by U.S. Scheduled Air Carriers

14 CFR part 208—Charter Trips by U.S. Charter Air Carriers

14 CFR part 211—Applications for Permits to Foreign Air Carriers

14 CFR part 212—Charter Rules for U.S. and Foreign Direct Air Carriers

Year 2 (fall 2009) List of rules analyzed and a summary of results

48 CFR part 1201—Federal Acquisition Regulations System

• Section 610: There is no SEIOSNOSE.

• General: This rule prescribes Agency control and compliance procedures concerning the proliferation of acquisition regulations and any revisions. M-60's plain language review of this rule indicates minor editorial changes are needed but no need for substantial revision.

48 CFR part 1202—Definitions of Words and Terms

• Section 610: There is no SEIOSNOSE.

• General: This rule provides definitions of words and terms concerning acquisitions in DOT. M-60's plain language review of this rule indicates no need for substantial revision.

48 CFR part 1203—Improper Business Practices and Personal Conflicts of Interest

• Section 610: There is no SEIOSNOSE.

• General: This rule provides process for reporting suspected violations of the Gratuities clause. M-60's plain language review of this rule indicates minor editorial changes are needed but no need for substantial revision.

48 CFR part 1204—Administrative Matters

• Section 610: There is no SEIOSNOSE.

• General: This rule provides procedures for closing out contract files and supporting closeout documents. M-60's plain language review of this rule indicates no need for substantial revision.

48 CFR part 1205—Publicizing Contract Actions

• Section 610: There is no SEIOSNOSE.

• General: This rule provides methods of disseminating information. M-60's plain language review of this rule indicates no need for substantial revision.

48 CFR part 1206—Competition Requirements

• Section 610: There is no SEIOSNOSE.

• General: This rule provides information concerning competition advocates. M-60's plain language review of this rule indicates no need for substantial revision.

48 CFR part 1207—Acquisition Planning

• Section 610: There is no SEIOSNOSE.

• General: This rule provides information concerning requirements which will be followed when cost comparisons between Government and Contractor performance are conducted. M-60's plain language review of this rule indicates no need for substantial revision.

48 CFR part 1211—Describing Agency Needs

• Section 610: There is no SEIOSNOSE.

• General: This provides information concerning the need to include, as applicable, safeguards to ensure safety, security, and environmental protection in requirements documents. M-60's plain language review of this rule indicates no need for substantial revision.

48 CFR part 1213—Simplified Acquisition Procedures

• Section 610: There is no SEIOSNOSE.

• General: This provides DOT procedures for acquiring training services. M-60's plain language review of this rule indicates no need for revision.

48 CFR part 1214—Sealed Bidding

• Section 610: There is no SEIOSNOSE.

• General: This rule provides for telegraphic bids to be communicated provided procedures have been established by the COCO. M-60's plain language review of this rule indicates no need for revision.

48 CFR part 1215—Contracting By Negotiation

• Section 610: There is no SEIOSNOSE.

• General: This rule provides information concerning the solicitation and receipt of proposals and information including evaluation. M-60's plain language review of this rule indicates no need for substantial revision.

48 CFR part 1216—Types of Contracts

• Section 610: There is no SEIOSNOSE.

• General: This rule provides information concerning Fixed-Price Contracts, Incentive Contracts, Indefinite-Delivery Contracts, and Time-and-Materials, Labor-Hour, and Letter Contracts. M-60's plain language review of this rule indicates no need for substantial revision.

48 CFR part 1217—Special Contracting Methods

• Section 610: There is no SEIOSNOSE.

• General: This rule provides procedures for fixed price contracts for vessel repair, alteration, or conversion. M-60's plain language review of this rule indicates no need for substantial revision.

48 CFR part 1219—Small Business Programs

• Section 610: There is no SEIOSNOSE.

• General: This rule addresses contracting issues associated with subcontracting with Small Business, Small Disadvantaged Business, and Women-Owned Small Business concerns. It also provides some discussion of small business competitiveness demonstration program.

48 CFR part 1222—Application of Labor Laws to Government Acquisitions

• Section 610: There is no SEIOSNOSE.

• General: This rule covers aspects of basic labor policies and labor standards. Particular focus is directed to labor standards involving construction.

48 CFR part 1223—Environment, Energy and Water Efficiency, Renewable Energy Technologies, Occupational Safety, and Drug-Free Workplace

• Section 610: There is no SEIOSNOSE.

• General: This rule addresses safety requirements for selected DOT contracts. The emphasis here is on hazardous material identification and material safety data.

48 CFR part 1224—Protection of Privacy and Freedom of Information

• Section 610: There is no SEIOSNOSE.

• General: This rule includes discussion of procedures and appeals processes with a focus on the Freedom of Information Act.

48 CFR part 1227—Patents, Data, and Copyrights

• Section 610: There is no SEIOSNOSE.

• General: This rule includes discussion of procedures and appeals processes.

48 CFR part 1228—Bonds and Insurance

• Section 610: There is no SEIOSNOSE.

• General: This rule covers bonds and other financial protections, insurance, and performance and payment bonds for certain contracts.

48 CFR part 1231—Contract Cost Principles and Procedures

• Section 610: There is no SEIOSNOSE.

• General: This rule discusses contracts with commercial organizations.

48 CFR part 1232—Contract Financing

• Section 610: There is no SEIOSNOSE.

• General: This rule focuses on contract payment processes.

48 CFR part 1233—Protests, Disputes, and Appeals

• Section 610: There is no SEIOSNOSE.

• General: This rule focuses on the protests, disputes, and appeals process with a particular emphasis on CO decisions and alternative dispute resolution.

48 CFR part 1234—[Reserved]

48 CFR part 1235—Research and Development Contracting

• Section 610: There is no SEIOSNOSE.

• General: This rule includes discussion of research and development contracting and provides discussion on research misconduct.

48 CFR part 1236—Construction and Architect-Engineer Contracts

• Section 610: There is no SEIOSNOSE.

• General: This rule covers contract clauses for construction and architect-engineer contracts. It also includes discussion of special precautions for work at operating airports.

48 CFR part 1237—Service Contracting

• Section 610: There is no SEIOSNOSE.

• General: This rule includes information relating to DOT procedures for acquiring training services, and solicitation provisions and contract clauses.

48 CFR part 1239—Acquisition of Information Technology

• Section 610: There is no SEIOSNOSE.

• General: This rule includes solicitation procedures and contract clauses.

48 CFR part 1242—Contract Administration and Audit Services

• Section 610: There is no SEIOSNOSE.

• General: This rule includes appropriate contract clauses for use in audit services.

48 CFR part 1245—Government Property

• Section 610: There is no SEIOSNOSE.

• General: This rule focuses on the management of government property, reporting results of inventory, and audit of property control systems.

48 CFR part 1246—Quality Assurance

• Section 610: There is no SEIOSNOSE.

• General: This rule incorporates a discussion of warranties, and warranty terms and conditions.

48 CFR part 1247—Transportation

• Section 610: There is no SEIOSNOSE.

• General: This rule focuses on ocean transportation by U.S.-flag vessels.

48 CFR part 1252—Solicitation Provisions and Contract Clauses

• Section 610: There is no SEIOSNOSE.

• General: This rule includes, but is not limited to, evaluation of offers subject to an economic price adjustment, determination of award, performance evaluation plans, distribution of award fee, settlement of letter contracts, contract performance, subcontracts and liability and insurance.

48 CFR part 1253—Forms

• Section 610: There is no SEIOSNOSE.

• General: This rule includes prescriptions and illustrations of forms.

Year 3 (fall 2010) List of rules to be analyzed during the next year

14 CFR part 213—Terms, Conditions, and Limitations of Foreign Air Carrier Permits

14 CFR part 214—Terms, Conditions, and Limitations of Foreign Air Carrier Permits Authorizing Charter Transportation Only

14 CFR part 215—Use and Change of Names of Air Carriers, Foreign Air Carriers, and Commuter Air Carriers

14 CFR part 216—Comingling of Blind Sector Traffic by Foreign Air Carriers

14 CFR part 217—Reporting Traffic Statistics by Foreign Air Carriers in Civilian Scheduled, Charter, and Nonscheduled Services

14 CFR part 218—Lease by Foreign Air Carrier or Other Foreign Person of Aircraft With Crew

14 CFR part 221—Tariffs

14 CFR part 222—Intermodal Cargo Services by Foreign Air Carriers

14 CFR part 223—Free and Reduced-Rate Transportation

14 CFR part 232—Transportation of Mail, Review of Orders of Postmaster General

Federal Aviation Administration
Section 610 Review Plan
Year | Regulations to be reviewed | Analysis year | Review year
1 | 14 CFR parts 119 through 129 and parts 150 through 156 | 2008 | 2009
2 | 14 CFR parts 133 through 139 and parts 157 through 169 | 2009 | 2010
3 | 14 CFR parts 141 through 147 and parts 170 through 187 | 2010 | 2011
4 | 14 CFR parts 189 through 198 and parts 1 through 16 | 2011 | 2012
5 | 14 CFR parts 17 through 33 | 2012 | 2013
6 | 14 CFR parts 34 through 39 and parts 400 through 405 | 2013 | 2014
7 | 14 CFR parts 43 through 49 and parts 406 through 415 | 2014 | 2015
8 | 14 CFR parts 60 through 77 | 2015 | 2016
9 | 14 CFR parts 91 through 105 | 2016 | 2017
10 | 14 CFR parts 417 through 460 | 2017 | 2018

Section 610 Review Plan

The FAA has elected to use the two-step, two-year process used by most DOT modes in past plans. As such, the FAA has divided its rules into 10 groups as displayed in the table below. During the first year (the “analysis year”), all rules published during the previous 10 years within a 10% block of the regulations will be analyzed to identify those with a SEIOSNOSE. During the second year (the “review year”), each rule identified in the analysis year as having a SEIOSNOSE will be reviewed in accordance with Section 610(b) to determine if it should be continued without change or changed to minimize impact on small entities. Results of those reviews will be published in the DOT Semiannual Regulatory Agenda.

Year 3 (fall 2010) List of rules analyzed and summary of results

14 CFR part 141—Pilot Schools

• Section 610: The agency conducted a Section 610 review of this part and found no SEIOSNOSE.

• General: No changes are needed. These regulations are cost effective and impose the least burden. FAA's plain language review of these rules indicates no need for substantial revision.

14 CFR part 142—Training Centers

• Section 610: The agency conducted a Section 610 review of this part and found no SEIOSNOSE.

• General: No changes are needed. These regulations are cost effective and impose the least burden. FAA's plain language review of these rules indicates no need for substantial revision.

14 CFR part 145—Repair Stations

• Section 610: The agency conducted a Section 610 review of this part and found no SEIOSNOSE.

• General: No changes are needed. These regulations are cost effective and impose the least burden. FAA's plain language review of these rules indicates no need for substantial revision.

14 CFR part 147—Aviation Maintenance Technician Schools

• Section 610: The agency conducted a Section 610 review of this part and found no SEIOSNOSE.

• General: No changes are needed. These regulations are cost effective and impose the least burden. FAA's plain language review of these rules indicates no need for substantial revision.

14 CFR part 170—Establishment and Discontinuance Criteria for Air Traffic Control Services and Navigational Facilities

• Section 610: The agency conducted a Section 610 review of this part and found no SEIOSNOSE.

• General: No changes are needed. These regulations are cost effective and impose the least burden. FAA's plain language review of these rules indicates no need for substantial revision.

14 CFR part 171—Non-Federal Navigation Facilities

• Section 610: The agency conducted a Section 610 review of this part and found no SEIOSNOSE.

• General: No changes are needed. These regulations are cost effective and impose the least burden. FAA's plain language review of these rules indicates no need for substantial revision.

14 CFR part 183—Representatives of the Administrator

• Section 610: The agency conducted a Section 610 review of this part and found no SEIOSNOSE.

• General: No changes are needed. These regulations are cost effective and impose the least burden. FAA's plain language review of these rules indicates no need for substantial revision.

14 CFR part 185—Testimony by Employees And Production of Records in Legal Proceedings, and Service of Legal Process and Pleadings

• Section 610: 14 CFR part 185 does not affect small entities. Therefore, amendments to it cannot have a SEIOSNOSE.

• General: No changes are needed. These regulations are cost effective and impose the least burden. FAA's plain language review of these rules indicates no need for substantial revision.

14 CFR part 187—Fees

• Section 610: The agency conducted a Section 610 review of this part and found no SEIOSNOSE.

• General: No changes are needed. These regulations are cost effective and impose the least burden. FAA's plain language review of these rules indicates no need for substantial revision.

Year 4 (fall 2011) List of rules to be analyzed during the next year

14 CFR part 189—Use of Federal Aviation Administration Communications System 14

14 CFR part 198—Aviation Insurance

14 CFR part 1—Definitions and Abbreviations

14 CFR part 3—General Requirements

14 CFR part 11—General Rulemaking Procedures

14 CFR part 13—Investigative and Enforcement Procedures

14 CFR part 14—Rules Implementing the Equal Access to Justice Act of 1980

14 CFR part 15—Administrative Claims Under Federal Tort Claims Act

14 CFR part 16—Rules of Practice for Federally Assisted Airport Enforcement Proceedings

Federal Highway Administration
Section 610 and Other Reviews
Year | Regulations to be reviewed | Analysis year | Review year
1 | None | 2008 | 2009
2 | 23 CFR parts 1 to 260 | 2009 | 2010
3 | 23 CFR parts 420 to 470 | 2010 | 2011
4 | 23 CFR part 500 | 2011 | 2012
5 | 23 CFR parts 620 to 637 | 2012 | 2013
6 | 23 CFR parts 645 to 669 | 2013 | 2014
7 | 23 CFR 710 to 924 | 2014 | 2015
8 | 23 CFR 940 to 973 | 2015 | 2016
9 | 23 CFR parts 1200 to 1252 | 2016 | 2017
10 | New parts and subparts | 2017 | 2018

Federal-Aid Highway Program

The FHWA has adopted regulations in title 23 of the CFR, chapter I, related to the Federal-Aid Highway Program. These regulations implement and carry out the provisions of Federal law relating to the administration of Federal aid for highways. The primary law authorizing Federal aid for highways is chapter I of title 23 of the U.S.C. section 145 of title 23 expressly provides for a federally assisted State program. For this reason, the regulations adopted by the FHWA in title 23 of the CFR primarily relate to the requirements that States must meet to receive Federal funds for the construction and other work related to highways. Because the regulations in title 23 primarily relate to States, which are not defined as small entities under the Regulatory Flexibility Act, the FHWA believes that its regulations in title 23 do not have a significant economic impact on a substantial number of small entities. The FHWA solicits public comment on this preliminary conclusion.

Year 2 (fall 2009) List of rules analyzed and a summary of results

23 CFR part 1—General

• Section 610: No SEIOSNOSE. No small entities are affected.

• General: No changes are needed. These regulations are cost effective and impose the least burden. FHWA's plain language review of these rules indicates no need for substantial revision.

23 CFR part 140—Reimbursement

• Section 610: No SEIOSNOSE. This section applies primarily to State transportation agencies that are not small entities.

• General: No changes are needed. These regulations are cost effective and impose the least burden. FHWA's plain language review of these rules indicates no need for substantial revision.

23 CFR part 172—Administration of Engineering and Design-Related Service Contracts

• Section 610: No SEIOSNOSE. This section applies primarily to State transportation agencies that are not small entities.

• General: No changes are needed. These regulations are cost effective and impose the least burden. FHWA's plain language review of these rules indicates no need for substantial revision.

23 CFR part 180—Credit Assistance for Surface Transportation Projects

• Section 610: No SEIOSNOSE. This section applies primarily to State transportation agencies that are not small entities.

• General: No changes are needed. These regulations are cost effective and impose the least burden. FHWA's plain language review of these rules indicates no need for substantial revision.

23 CFR part 190—Incentive Payments for Controlling Outdoor Advertising on the Interstate System

• Section 610: No SEIOSNOSE. This section applies primarily to State transportation agencies that are not small entities.

• General: No changes are needed. These regulations are cost effective and impose the least burden. FHWA's plain language review of these rules indicates no need for substantial revision.

23 CFR part 192—Drug Offender's Driver's License Suspension

• Section 610: No SEIOSNOSE. This section applies primarily to State transportation agencies that are not small entities.

• General: No changes are needed. These regulations are cost effective and impose the least burden. FHWA's plain language review of these rules indicates no need for substantial revision.

23 CFR part 200—Title VI Program and Related Statutes—Implementation and Review procedures

• Section 610: No SEIOSNOSE. This section applies primarily to State transportation agencies that are not small entities.

• General: No changes are needed. These regulations are cost effective and impose the least burden. FHWA's plain language review of these rules indicates no need for substantial revision.

23 CFR part 230—External Programs

• Section 610: No SEIOSNOSE. Some small entities may be affected, but the economic impact on small entities will not be significant.

• General: No changes are needed. These regulations are cost effective and impose the least burden. FHWA's plain language review of these rules indicates no need for substantial revision.

23 CFR part 260—Education and Training Programs

• Section 610: No SEIOSNOSE. No small entities are affected.

• General: No changes are needed. These regulations are cost effective and impose the least burden. FHWA's plain language review of these rules indicates no need for substantial revision.

Year 3 (fall 2010) List of rules that will be analyzed during the next year

23 CFR part 420—Planning and Research Program Administration

23 CFR part 450—Planning Assistance and Standards

23 CFR part 460—Public Road Mileage for Apportionment of Highway Safety Funds

23 CFR part 470—Highway Systems

Federal Motor Carrier Safety Administration
Section 610 and Other Reviews
Year | Regulations to be reviewed | Analysis year | Review year
1 | 49 CFR parts 372, subpart A, and 381 | 2008 | 2009
2 | 49 CFR parts 386, 389, and 395 | 2009 | 2010
3 | 49 CFR parts 325, 388, 350, and 355 | 2010 | 2011
4 | 49 CFR parts 380 and 382 to 385 | 2011 | 2012
5 | 49 CFR parts 390 to 393 and 396 to 399 | 2012 | 2013
6 | 49 CFR parts 356, 367, 369 to 371, 372, subparts B-C | 2013 | 2014
7 | 49 CFR parts 373, 374, 376, and 379 | 2014 | 2015
8 | 49 CFR parts 360, 365, 366, and 368 | 2015 | 2016
9 | 49 CFR parts 377, 378, and 387 | 2016 | 2017
10 | 49 CFR parts 303, 375, and new parts and subparts | 2017 | 2018

Year 2 (fall 2009) List of rules analyzed and a summary of results

49 CFR part 386—Rules of Practice for Motor Carrier, Broker, Freight Forwarder, and Hazardous Materials Proceedings

• Section 610: There is SEIOSNOSE, as a significant number of small entities are affected by fees and reporting requirements in the regulation. It was found that the cost of a formal hearing to appeal a decision may have a significant impact on small firms.

• General: The Agency will assess the need for changes once the review of these regulations is complete. FMCSA's plain language review of these regulations indicates no need for substantial revision.

49 CFR part 395—Hours of Service of Drivers

• This has been postponed, due to initiation of new rulemaking; Agency is set to publish in July 2011.

Year 2 (fall 2009) List of rules with ongoing analysis

49 CFR part 389—Rulemaking Procedures—Federal Motor Carrier Safety Regulations

Year 3 (fall 2010) List of rules that will be analyzed during the next year

49 CFR part 325—Compliance With Interstate Motor Carrier Noise Emission

49 CFR part 388—Cooperative Agreements With States

49 CFR part 350—Commercial Motor Carrier Safety Assistance Program

49 CFR part 355—Compatibility of State Laws and Regulations Affecting Interstate Motor Carrier Operations

National Highway Traffic Safety Administration
Section 610 and Other Reviews
Year | Regulations to be reviewed | Analysis year | Review year
1 | 49 CFR 571.223 through 571.500 and parts 575 and 579 | 2008 | 2009
2 | 23 CFR parts 1200 and 1300 | 2009 | 2010
3 | 49 CFR parts 501 through 526 and 571.213 | 2010 | 2011
4 | 49 CFR 571.131, 571.217, 571.220, 571.221, and 571.222 | 2011 | 2012
5 | 49 CFR 571.101 through 571.110, and 571.135, 571.138, and 571.139 | 2012 | 2013
6 | 49 CFR parts 529 through 578, except parts 571 and 575 | 2013 | 2014
7 | 49 CFR 571.111 through 571.129 and parts 580 through 588 | 2014 | 2015
8 | 49 CFR 571.201 through 571.212 | 2015 | 2016
9 | 49 CFR 571.214 through 571.219, except 571.217 | 2016 | 2017
10 | 49 CFR parts 591 through 595 and new parts and subparts | 2017 | 2018

Year 2 (fall 2009) List of rules analyzed and a summary of the results

23 CFR part 1200—Uniform Procedures for State Highway Safety Programs

• Section 610: No SEIOSNOSE. No small entities are affected.

• General: No changes are needed. These regulations are cost effective and impose the least burden. NHTSA's plain language review of these rules indicates no need for substantial revision.

23 CFR part 1205—Highway Safety Programs; Determinations of Effectiveness

• Section 610: No SEIOSNOSE. No small entities are affected.

• General: No changes are needed. These regulations are cost effective and impose the least burden. NHTSA's plain language review of these rules indicates no need for substantial revision.

23 CFR part 1206—Rules of Procedure for Invoking Sanctions Under the Highway Safety Act of 1966

• Section 610: No SEIOSNOSE. No small entities are affected.

• General: No changes are needed. These regulations are cost effective and impose the least burden. NHTSA's plain language review of these rules indicates no need for substantial revision.

23 CFR part 1208—National Minimum Drinking Age

• Section 610: No SEIOSNOSE. No small entities are affected.

• General: No changes are needed. These regulations are cost effective and impose the least burden. NHTSA's plain language review of these rules indicates no need for substantial revision.

23 CFR part 1210—Operation of Motor Vehicles by Intoxicated Minors

• Section 610: No SEIOSNOSE. No small entities are affected.

• General: No changes are needed. These regulations are cost effective and impose the least burden. NHTSA's plain language review of these rules indicates no need for substantial revision.

23 CFR part 1215—Use of Safety Belts—Compliance and Transfer-of-Funds Procedures

• Section 610: No SEIOSNOSE. No small entities are affected.

• General: No changes are needed. These regulations are cost effective and impose the least burden. NHTSA's plain language review of these rules indicates no need for substantial revision.

23 CFR part 1225—Operation of Motor Vehicles by Intoxicated Persons

• Section 610: No SEIOSNOSE. No small entities are affected.

• General: No changes are needed. These regulations are cost effective and impose the least burden. NHTSA's plain language review of these rules indicates no need for substantial revision.

23 CFR part 1235—Uniform System for Parking for Persons With Disabilities

• Section 610: No SEIOSNOSE. No small entities are affected.

• General: No changes are needed. These regulations are cost effective and impose the least burden. NHTSA's plain language review of these rules indicates no need for substantial revision.

23 CFR part 1240—Safety Incentive Grants for Use of Seat Belts—Allocations Based on Seat Belt Use Rates

• Section 610: No SEIOSNOSE. No small entities are affected.

• General: No changes are needed. These regulations are cost effective and impose the least burden. NHTSA's plain language review of these rules indicates no need for substantial revision.

23 CFR part 1250—Political Subdivision Participation in State Highway Safety Programs

• Section 610: No SEIOSNOSE. No small entities are affected.

• General: No changes are needed. These regulations are cost effective and impose the least burden. NHTSA's plain language review of these rules indicates no need for substantial revision.

23 CFR part 1251—State Highway Safety Agency

• Section 610: No SEIOSNOSE. No small entities are affected.

• General: No changes are needed. These regulations are cost effective and impose the least burden. NHTSA's plain language review of these rules indicates no need for substantial revision.

23 CFR part 1252—State Matching of Planning and Administration Costs

• Section 610: No SEIOSNOSE. No small entities are affected.

• General: No changes are needed. These regulations are cost effective and impose the least burden. NHTSA's plain language review of these rules indicates no need for substantial revision.

23 CFR part 1270—Open Container Laws

• Section 610: No SEIOSNOSE. No small entities are affected.

• General: No changes are needed. These regulations are cost effective and impose the least burden. NHTSA's plain language review of these rules indicates no need for substantial revision.

23 CFR part 1275—Repeat Intoxicated Driver Laws

• Section 610: No SEIOSNOSE. No small entities are affected.

• General: No changes are needed. These regulations are cost effective and impose the least burden. NHTSA's plain language review of these rules indicates no need for substantial revision.

23 CFR part 1313—Incentive Grant Criteria for Alcohol-Impaired Driving Prevention Programs

• Section 610: No SEIOSNOSE. No small entities are affected.

• General: No changes are needed. These regulations are cost effective and impose the least burden. NHTSA's plain language review of these rules indicates no need for substantial revision.

23 CFR part 1327—Procedures for Participating in and Receiving Information From the National Driver Register Problem Driver Pointer System

• Section 610: No SEIOSNOSE. No small entities are affected.

• General: No changes are needed. These regulations are cost effective and impose the least burden. NHTSA's plain language review of these rules indicates no need for substantial revision.

23 CFR part 1335—State Highway Safety Data Improvements

• Section 610: No SEIOSNOSE. No small entities are affected.

• General: No changes are needed. These regulations are cost effective and impose the least burden. NHTSA's plain language review of these rules indicates no need for substantial revision.

23 CFR part 1340—Uniform Criteria for State Observational Surveys of Seat Belt Use

• Section 610: No SEIOSNOSE. No small entities are affected.

• General: No changes are needed. These regulations are cost effective and impose the least burden. NHTSA's plain language review of these rules indicates no need for substantial revision.

23 CFR part 1345—Incentive Grant Criteria for Occupant Protection Programs

• Section 610: No SEIOSNOSE. No small entities are affected.

• General: No changes are needed. These regulations are cost effective and impose the least burden. NHTSA's plain language review of these rules indicates no need for substantial revision.

23 CFR part 1350—Incentive Grant Criteria for Motorcycle Safety Program

• Section 610: No SEIOSNOSE. No small entities are affected.

• General: No changes are needed. These regulations are cost effective and impose the least burden. NHTSA's plain language review of these rules indicates no need for substantial revision.

Year 3 (fall 2010) List of rules that will be analyzed during the next year

49 CFR part 501—Organization and Delegation of Powers and Duties

49 CFR part 509—OMB Control Numbers for Information Collection Requirements

49 CFR part 510—Information Gathering Powers

49 CFR part 511—Adjudicative Procedures

49 CFR part 512—Confidential Business Information

49 CFR part 520—Procedures for Considering Environmental Impacts

49 CFR part 523—Vehicle Classification

49 CFR part 525—Exemptions From Average Fuel Economy Standards

49 CFR part 526—Petitions and Plans for Relief Under the Automobile Fuel Efficiency Act of 1980

49 CFR 571.213—Child Restraint Systems

Federal Railroad Administration
Section 610 and Other Reviews
Year | Regulations to be reviewed | Analysis year | Review year
1 | 49 CFR parts 200 and 201 | 2008 | 2009
2 | 49 CFR parts 207, 209, 211, 215, 238, and 256 | 2009 | 2010
3 | 49 CFR parts 210, 212, 214, 217, and 268 | 2010 | 2011
4 | 49 CFR part 219 | 2011 | 2012
5 | 49 CFR parts 218, 221, 241, and 244 | 2012 | 2013
6 | 49 CFR parts 216, 228, and 229 | 2013 | 2014
7 | 49 CFR parts 223 and 233 | 2014 | 2015
8 | 49 CFR parts 224, 225, 231, and 234 | 2015 | 2016
9 | 49 CFR parts 222, 227, 235, 236, 250, 260, and 266 | 2016 | 2017
10 | 49 CFR parts 213, 220, 230, 232, 239, 240, and 265 | 2017 | 2018

Year 2 (fall 2009) List of rules analyzed and a summary of results

49 CFR part 207—Railroad Police Officers

• Section 610: There is no SEIOSNOSE.

• General: No changes are needed. These regulations are cost effective and impose the least burden. FRA's plain language review of this rule indicates no need for substantial revision.

49 CFR part 209—Railroad Safety Enforcement Procedures

• Section 610: There is no SEIOSNOSE.

• General: No changes are needed. These regulations are cost effective and impose the least burden. FRA's plain language review of this rule indicates no need for substantial revision.

49 CFR part 211—Rules of Practice

• Section 610: There is no SEIOSNOSE.

• General: No changes are needed. These regulations are cost effective and impose the least burden. FRA's plain language review of this rule indicates no need for substantial revision.

49 CFR part 215—Railroad Freight Car Safety Standards

• Section 610: There is a SEIOSNOSE.

• General: No changes are needed. This rule already limits economic impact on small entities through appendix D of the rule. FRA's plain language review of this rule indicates no need for substantial revision.

49 CFR part 238—Passenger Equipment Safety Standards

• Section 610: There is no SEIOSNOSE.

• General: No changes are needed. These regulations are cost effective and impose the least burden. FRA's plain language review of this rule indicates no need for substantial revision.

49 CFR part 256—Financial Assistance for Railroad Passenger Terminals

• Section 610: There is no SEIOSNOSE.

• General: No changes are needed. These regulations are cost effective and impose the least burden. FRA's plain language review of the rule indicates no need for substantial revision.

Year 3 (fall 2010) List of rule(s) that will be analyzed during next year

49 CFR part 210—Railroad Noise Emission Compliance Regulations

49 CFR part 212—State Safety Participation Regulations

49 CFR part 214—Railroad Workplace Safety

49 CFR part 217—Railroad Operating Rules

49 CFR part 268—Magnetic Levitation Transportation Technology Deployment Program

Federal Transit Administration
Section 610 and Other Reviews
Year | Regulations to be reviewed | Analysis year | Review year
1 | 49 CFR parts 604, 605, and 633 | 2008 | 2009
2 | 49 CFR parts 661 and 665 | 2009 | 2010
3 | 49 CFR part 633 | 2010 | 2011
4 | 49 CFR parts 609 and 611 | 2011 | 2012
5 | 49 CFR parts 613 and 614 | 2012 | 2013
6 | 49 CFR part 622 | 2013 | 2014
7 | 49 CFR part 630 | 2014 | 2015
8 | 49 CFR part 639 | 2015 | 2016
9 | 49 CFR parts 659 and 663 | 2016 | 2017
10 | 49 CFR part 665 | 2017 | 2018

Year 2 (fall 2009) List of rules analyzed and summary of results

49 CFR part 665—Bus Testing

• Section 610: The Agency has determined that the rule will not have a significant effect on a substantial number of small entities.

• General: This rulemaking amends FTA's bus testing program to incorporate brake performance and emission tests. The rule also clarifies existing regulatory requirements and was drafted using plain language techniques.

Year 3 (fall 2010) List of rules that will be analyzed during the next year

49 CFR part 605—School Bus Operations

49 CFR part 633—Capital Project Management

Maritime Administration
Section 610 and Other Reviews
Year | Regulations to be reviewed | Analysis year | Review year
1 | 46 CFR parts 201 through 205 | 2008 | 2009
2 | 46 CFR parts 221 through 232 | 2009 | 2010
3 | 46 CFR parts 249 through 296 | 2010 | 2011
4 | 46 CFR part 298 | 2011 | 2012
5 | 46 CFR parts 307 through 309 | 2012 | 2013
6 | 46 CFR part 310 | 2013 | 2014
7 | 46 CFR parts 315 through 340 | 2014 | 2015
8 | 46 CFR parts 345 through 381 | 2015 | 2016
9 | 46 CFR parts 382 through 389 | 2016 | 2017
10 | 46 CFR parts 390 through 393 | 2017 | 2018

Year 2 (fall 2009) List of rules analyzed and a summary of the results

46 CFR part 221—Regulated Transactions Involving Documented Vessels and Other Maritime Interests

• Section 610: No SEIOSNOSE. Some small entities may be affected, but the economic impact on small entities will not be significant.

• General: No changes are needed. Where confusing or wordy language has been identified, revisions will be made.

46 CFR part 232—Uniform Financial Reporting Requirements

• Section 610: No SEIOSNOSE. Some small entities may be affected, but the economic impact on small entities will not be significant.

• General: No changes are needed. Where confusing or wordy language has been identified, revisions will be made.

Year 3 (fall 2010) list of rules that will be analyzed during the next year

46 CFR part 249—Approval of Underwriters for Marine Hull Insurance

46 CFR part 251—Application for Subsidies and Other Direct Financial Aid

46 CFR part 252—Operating-Differential Subsidy for Bulk Cargo Vessels Engaged in Worldwide Services

46 CFR part 272—Requirements and Procedures for Conducting Condition Surveys and Administering Maintenance and Repair Subsidy

46 CFR part 276—Construction-Differential Subsidy Repayment

46 CFR part 277—Domestic and Foreign Trade; Interpretations

46 CFR part 280—Limitations on the Award and Payment of Operating-Differential Subsidy for Liner Operators

46 CFR part 281—Information and Procedure Required Under Liner Operating-Differential Subsidy Agreements

46 CFR part 282—Operating-Differential Subsidy for Liner Vessels Engaged in Essential Services in the Foreign Commerce of the United States

46 CFR part 283—Dividend Policy for Operators Receiving Operating-Differential Subsidy

46 CFR part 287—Establishment of Construction Reserve Funds

46 CFR part 289—Insurance of Construction-Differential Subsidy Vessels, Operating-Differential Subsidy Vessels, and of Vessels Sold or Adjusted Under the Merchant Ship Sales Act of 1946

46 CFR part 295—Maritime Security Program (MSP)

46 CFR part 296—Maritime Security Program (MSP)

Pipeline and Hazardous Materials Safety Administration (PHMSA)
Section 610 and Other Reviews
Year | Regulations to be reviewed | Analysis year | Review year
1 | 49 CFR part 178 | 2008 | 2009
2 | 49 CFR parts 178 through 180 | 2009 | 2010
3 | 49 CFR parts 172 and 175 | 2010 | 2011
4 | 49 CFR part 171, sections 171.15 and 171.16 | 2011 | 2012
5 | 49 CFR parts 106, 107, 171, 190, and 195 | 2012 | 2013
6 | 49 CFR parts 174, 177, 191, and 192 | 2013 | 2014
7 | 49 CFR parts 176 and 199 | 2014 | 2015
8 | 49 CFR parts 172 through 178 | 2015 | 2016
9 | 49 CFR parts 172, 173, 174, 176, 177, and 193 | 2016 | 2017
10 | 49 CFR parts 173 and 194 | 2017 | 2018

Year 2 (fall 2009) List of rules analyzed and a summary of results

49 CFR part 178—Specifications for Packagings

• Section 610: There is no SEIOSNOSE. A substantial number of small entities, particularly those that use performance oriented packagings, may be affected by this rule, but the economic impact on those entities is not significant.

• General: This rule prescribes minimum Federal safety standards for the construction of DOT specification packagings, these requirements are necessary to protect transportation workers and the public and to ensure the survivability of DOT specification packagings during transportation incidents. PHMSA's plain language review of this rule indicates no need for substantial revision.

49 CFR part 179—Specifications for Tank Cars

• Section 610: There is no SEIOSNOSE. This rule prescribes specification requirements as minimum safety standards for rail tank cars used to transport hazardous materials in commerce. Some small entities may be affected, but the economic impact on small entities is not significant.

• General: Specification requirements for tank cars are considered minimum Federal safety standards that are necessary to protect transportation workers and the public and to ensure the survivability of DOT specification packagings during transportation incidents. PHMSA's plain language review of this rule indicates no need for substantial revision.

49 CFR part 180—Continuing Qualification and Maintenance of Packagings

• Section 610: There is no SEIOSNOSE. This rule impacts a substantial number of small entities, but when the survivability, durability, and service life of DOT specification packagings covered under this rule are fully considered, the economic impact on those entities is not significant.

• General: This rule prescribes requirements for maintaining and verifying the integrity of DOT specification packagings used for the transportation of hazardous materials in commerce. This rule ensures that DOT specification packagings continue to conform to the specifications to which they were originally manufactured and designed. PHMSA's plain language review of this rule indicates no need for substantial revision.

Year 3 (fall 2010) List of rules that will be analyzed during the next year

49 CFR part 172—Hazardous Materials Table, Special Provisions, Hazardous Materials Communications, Emergency Response Information, Training Requirements, and Security Plans

49 CFR part 175—Carriage By Aircraft

Research and Innovative Technology Administration (RITA)
Section 610 and Other Reviews
Year | Regulations to be reviewed | Analysis year | Review year
1 | 14 CFR part 241, form 41 | 2008 | 2009
2 | 14 CFR part 241, schedule T-100, and part 217 | 2009 | 2010
3 | 14 CFR part 298 | 2010 | 2011
4 | 14 CFR part 241, section 19-7 | 2011 | 2012
5 | 14 CFR part 291 | 2012 | 2013
6 | 14 CFR part 234 | 2013 | 2014
7 | 14 CFR part 249 | 2014 | 2015
8 | 14 CFR part 248 | 2015 | 2016
9 | 14 CFR part 250 | 2016 | 2017
10 | 14 CFR part 374a, ICAO | 2017 | 2018

Year 1 (fall 2008) List of rules with ongoing analysis

14 CFR part 241—Uniform system of Accounts and Reports for Large Certificated Air Carriers, Form 41

Year 2 (fall 2009) List of rules analyzed and a summary of the results

14 CFR part 241—Schedule T-100

• Section 610: There is no SEIONOSE. Part 241 Schedule T-100 applies to only large certificated air carriers.

• General: Part 241 Schedule T-100 is a monthly report of on-flight market and nonstop segment traffic data for flights operated by large certificated air carriers. This regulation is being reviewed as part of an overall aviation data requirements review and modernization program, which will also take into account the plain language initiative.

14 CFR part 217—Reporting Traffic Statistics by Foreign Air Carriers in Civilian Scheduled, Charter, and Nonscheduled Services—Schedule T-100(f)

• Section 610: There is no SEIONOSE. This regulation applies to foreign air carriers that operate to or from the United States. Currently 93 percent of the reporting carriers are large foreign air carriers.

• General: This regulation requires the submission of traffic data for operations to or from the United States. This regulation is being reviewed as part of an overall aviation data requirements review and modernization program, which will also take into account the plain language initiative.

Year 3 (fall 2010) List of rules that will be analyzed during the next year

14 CFR part 298 subpart f—Exemptions for Air Taxi and Commuter Air Carrier Operations—Reporting Requirements

Saint Lawrence Seaway Development Corporation
Section 610 and Other Reviews
Year | Regulations to be reviewed | Analysis year | Review year
1 | 33 CFR parts 401 through 403 | 2008 | 2009

Year 1 (fall 2008) List of rules with ongoing analysis

33 CFR part 401—Seaway Regulations and Rules

33 CFR part 402—Tariff of Tolls

33 CFR part 403—Rules of Procedure of the Joint Tolls Review Board

Office of the Secretary—Proposed Rule Stage
Sequence No. | Title | Regulation Identifier No.
237 | +Use of the Seat-Strapping Method for Carrying a Wheelchair on an Aircraft | 2105-AD87
+ DOT-designated significant regulation

Office of the Secretary—Completed Actions
Sequence No. | Title | Regulation Identifier No.
238 | Disadvantaged Business Enterprise; Potential Program Improvements | 2105-AD75
239 | +Enhancing Airline Passenger Protections—Part 2 | 2105-AD92
+ DOT-designated significant regulation

Federal Aviation Administration—Proposed Rule Stage
Sequence No. | Title | Regulation Identifier No.
240 | +Qualification, Service, and Use of Crewmembers and Aircraft Dispatchers | 2120-AJ00
241 | +Operation and Certification of Small Unmanned Aircraft Systems (SUAS) | 2120-AJ60
242 | +Repair Stations | 2120-AJ61
243 | +Part 121 Exiting Icing Conditions | 2120-AJ74
244 | +Air Carrier Maintenance Training Program (Section 610 Review) | 2120-AJ79
245 | +Safety Management Systems for Part 121 Certificate Holders (Section 610 Review) | 2120-AJ86
246 | +Flight Crewmember Mentoring, Leadership, and Professional Development (HR 5900) | 2120-AJ87
+ DOT-designated significant regulation

Federal Aviation Administration—Final Rule Stage
Sequence No. | Title | Regulation Identifier No.
247 | +Activation of Ice Protection | 2120-AJ43
248 | +Air Ambulance and Commercial Helicopter Operations; Safety Initiatives and Miscellaneous Amendments | 2120-AJ53
249 | +Flight and Duty Time Limitations and Rest Requirements | 2120-AJ58
+ DOT-designated significant regulation

Federal Motor Carrier Safety Administration—Proposed Rule Stage
Sequence No. | Title | Regulation Identifier No.
250 | +Unified Registration System | 2126-AA22
251 | +Electronic On-Board Recorders and Hours of Service Supporting Documents | 2126-AB20
252 | +Hours of Service | 2126-AB26
253 | +Drivers of Commercial Vehicles: Restricting the Use of Cellular Phones (Section 610 Review) | 2126-AB29
+ DOT-designated significant regulation

Federal Motor Carrier Safety Administration—Final Rule Stage
Sequence No. | Title | Regulation Identifier No.
254 | +National Registry of Certified Medical Examiners | 2126-AA97
+ DOT-designated significant regulation

Federal Motor Carrier Safety Administration—Long-Term Actions
Sequence No. | Title | Regulation Identifier No.
255 | +Safety Monitoring System and Compliance Initiative for Mexico-Domiciled Motor Carriers Operating in the United States | 2126-AA35
+ DOT-designated significant regulation

Federal Motor Carrier Safety Administration—Completed Actions
Sequence No. | Title | Regulation Identifier No.
256 | +Commercial Driver's License Testing and Commercial Learner's Permit Standards | 2126-AB02
+ DOT-designated significant regulation

National Highway Traffic Safety Administration—Completed Actions
Sequence No. | Title | Regulation Identifier No.
257 | +Ejection Mitigation | 2127-AK23
+ DOT-designated significant regulation

Federal Railroad Administration—Proposed Rule Stage
Sequence No. | Title | Regulation Identifier No.
258 | +Risk Reduction Program | 2130-AC11
+ DOT-designated significant regulation

Federal Railroad Administration—Final Rule Stage
Sequence No. | Title | Regulation Identifier No.
259 | +Hours of Service: Passenger Train Employees (Rulemaking Resulting From a Section 610 Review) | 2130-AC15
+ DOT-designated significant regulation

Saint Lawrence Seaway Development Corporation—Completed Actions
Sequence No. | Title | Regulation Identifier No.
260 | Tariff of Tolls (Completion of a Section 610 Review) | 2135-AA29

Pipeline and Hazardous Materials Safety Administration—Final Rule Stage
Sequence No. | Title | Regulation Identifier No.
261 | +Hazardous Materials: Revisions to Requirements for the Transportation of Lithium Batteries | 2137-AE44
+ DOT-designated significant regulation

Maritime Administration—Long-Term Actions
Sequence No. | Title | Regulation Identifier No.
262 | +Cargo Preference—Compromise, Assessment, Mitigation, Settlement and Collection of Civil Penalties | 2133-AB75
+ DOT-designated significant regulation

DEPARTMENT OF TRANSPORTATION (DOT)

Office of the Secretary (OST)

Proposed Rule Stage

237. +Use of the Seat-Strapping Method for Carrying a Wheelchair on an Aircraft

Legal Authority: 49 U.S.C. 41705

Abstract: This rulemaking would address whether carriers should be allowed to utilize the seat-strapping method to stow a passenger's wheelchair in the aircraft cabin. This rulemaking was recently upgraded to significant.

Timetable:

Action | Date | FR Cite
NPRM | 06/00/11

Regulatory Flexibility Analysis Required: Yes.

Agency Contact: Blane A Workie, Attorney, Department of Transportation, Office of the Secretary, 1200 New Jersey Avenue, SE, Washington, DC 20590, Phone: 202-366-9342, TDD Phone: 202-755-7687, Fax: 202-366-7152, E-mail: blane.workie@ost.dot.gov.

RIN: 2105-AD87

DEPARTMENT OF TRANSPORTATION (DOT)

Office of the Secretary (OST)

Completed Actions

238. Disadvantaged Business Enterprise; Potential Program Improvements

Legal Authority: 49 U.S.C. 329; 49 U.S.C. ch 401, 411, and 417; 49 U.S.C. 47107; 49 U.S.C. 47113; 49 U.S.C. 47123; Pub. L. 105-59, sec 101(b)

Abstract: The rule makes several improvements to the DBE program, in areas including program oversight, recipient accountability, and interstate certification.

Timetable:

Action | Date | FR Cite
ANPRM | 04/08/09 | 74 FR 15904
ANPRM Comment Period End | 07/07/09
NPRM | 05/10/10 | 75 FR 25815
NPRM Comment Period End | 07/09/10
Final Rule | 01/28/11 | 76 FR 5083
Final Rule Effective | 02/28/11

Regulatory Flexibility Analysis Required: Yes.

Agency Contact: Robert C Ashby, Deputy Assistant General Counsel for Regulation and Enforcement, Department of Transportation, Office of the Secretary, 1200 New Jersey Avenue, SE, Washington, DC 20590, Phone: 202-366-4723, TDD Phone: 202-755-7687, E-mail: bob.ashby@ost.dot.gov.

RIN: 2105-AD75

239. +Enhancing Airline Passenger Protections—Part 2

Legal Authority: 49 U.S.C. 41712; 49 U.S.C. 40101; 49 U.S.C. 41702

Abstract: This rulemaking would enhance airline passenger protections by addressing the following areas: (1) Contingency plans for lengthy tarmac delays; (2) reporting of tarmac delay data; (3) customer service plans; (4) notification to passengers of flight status changes; (5) inflation adjustment for denied boarding compensation; (6) alternative transportation for passengers on canceled flights; (7) opt-out provisions (e.g. travel insurance); (8) contract of carriage provisions; (9) baggage fees disclosure; and (10) full fare advertising.

Timetable:

Action | Date | FR Cite
NPRM | 06/08/10 | 75 FR 32318
Clarification to NPRM | 06/25/10 | 75 FR 36300
NPRM Comment Period Extended | 08/03/10 | 75 FR 45562
NPRM Comment Period End | 08/09/10
Extended Comment Period End | 09/23/10
Final Rule | 04/27/11 | 76 FR 23110
Final Rule Effective | 08/23/11

Regulatory Flexibility Analysis Required: Yes.

Agency Contact: Blane A Workie, Attorney, Department of Transportation, Office of the Secretary, 1200 New Jersey Avenue, SE, Washington, DC 20590, Phone: 202-366-9342, TDD Phone: 202-755-7687, Fax: 202-366-7152, E-mail: blane.workie@ost.dot.gov.

RIN: 2105-AD92

BILLING CODE 4910-9X-P

DEPARTMENT OF TRANSPORTATION (DOT)

Federal Aviation Administration (FAA)

Proposed Rule Stage

240. +Qualification, Service, and Use of Crewmembers and Aircraft Dispatchers

Legal Authority: 49 U.S.C. 106(g); 49 U.S.C. 40113; 49 U.S.C. 40119; 49 U.S.C. 44101; 49 U.S.C. 44701; 49 U.S.C. 44702; 49 U.S.C. 44705; 49 U.S.C. 44709 to 44711; 49 U.S.C. 44713; 49 U.S.C. 44716 to 44717; 49 U.S.C. 44722; 49 U.S.C. 44901; 49 U.S.C. 44903 to 44904; 49 U.S.C. 44912; 49 U.S.C. 46105

Abstract: This rulemaking would amend the regulations for crewmember and dispatcher training programs in domestic, flag, and supplemental operations. The rulemaking would enhance traditional training programs by requiring the use of flight simulation training devices for flight crewmembers and including additional training requirements in areas that are critical to safety. The rulemaking would also reorganize and revise the qualification and training requirements. The changes are intended to contribute significantly to reducing aviation accidents.

Timetable:

Action | Date | FR Cite
NPRM | 01/12/09 | 74 FR 1280
Proposed rule; notice of public meeting | 03/12/09 | 74 FR 10689
NPRM Comment Period Extended | 04/20/09 | 74 FR 17910
Comment Period End | 05/12/09
Extended Comment Period End | 08/10/09
Supplemental NPRM | 05/20/11 | 76 FR 29336
Supplemental NPRM Comment Period End | 07/19/11

Regulatory Flexibility Analysis Required: Yes.

Agency Contact: Nancy L Claussen, Federal Aviation Administration, Department of Transportation, Federal Aviation Administration, 800 Independence Ave, SW, Washington, DC 20591, Phone: 202-267-8166, E-mail: nancy.claussen@faa.gov.

RIN: 2120-AJ00

241. +Operation and Certification of Small Unmanned Aircraft Systems (SUAS)

Legal Authority: 49 U.S.C. 44701

Abstract: This rulemaking would enable small unmanned aircraft to safely operate in limited portions of the national airspace system (NAS). This action is necessary because it addresses the novel legal or policy issues about the minimum safety parameters for operating recreational remote control model and toy aircraft in the NAS. The intended effect of this action is to develop requirements and standards to ensure that risks are adequately mitigated, such that safety is maintained for the entire aviation community.

Timetable:

Action | Date | FR Cite
NPRM | 11/00/11

Regulatory Flexibility Analysis Required: Yes.

Agency Contact: Stephen A Glowacki, Department of Transportation, Federal Aviation Administration, 800 Independence Ave, SW, Washington, DC 20591, Phone: 202-385-4898, E-mail: stephen.a.glowacki@faa.gov.

RIN: 2120-AJ60

242. +Repair Stations

Legal Authority: 49 U.S.C. 44701 to 44702; 49 U.S.C. 106(g); 49 U.S.C. 40113; 49 U.S.C. 44701 to 44702; 49 U.S.C. 44707; 49 U.S.C. 44709; 49 U.S.C. 44717

Abstract: This rulemaking would update and revise the regulations for repair stations. The action is necessary because many portions of the current regulations do not reflect current repair station business practices, aircraft maintenance practices, or advances in aircraft technology.

Timetable:

Action | Date | FR Cite
NPRM | 11/00/11

Regulatory Flexibility Analysis Required: Yes.

Agency Contact: John J Goodwin, Department of Transportation, Federal Aviation Administration, 950 L'Enfant Plaza North, SW., Washington, DC 20024, Phone: 202 385-6417, E-mail: john.j.goodwin@faa.gov.

RIN: 2120-AJ61

243. +Part 121 Exiting Icing Conditions

Legal Authority: 49 U.S.C. 106(g); 49 U.S.C. 40113; 49 U.S.C. 40119; 49 U.S.C. 44101; 49 U.S.C. 44701 to 44702; 49 U.S.C. 44705; 49 U.S.C. 44709 to 44711; 49 U.S.C. 44713; 49 U.S.C. 44716 to 44717; 49 U.S.C. 44722; 49 U.S.C. 44901; 49 U.S.C. 44903 to 44904; 49 U.S.C. 44912; 49 U.S.C. 46105

Abstract: This rulemaking would require operators of certain airplanes used in air carrier service and certificated for flight in icing conditions to: 1. enable the flightcrew to determine when the airplane is in large drop icing conditions, and 2. require follow-on flightcrew action in these conditions for certain airplanes with reversible flight controls for the pitch and/or roll axis. This rulemaking is the result of information gathered from a review of icing accidents and incidents, and it is intended to improve the level of safety when airplanes are operated in icing conditions.

Timetable:

Action | Date | FR Cite
NPRM | 04/00/12 |

Regulatory Flexibility Analysis Required: Yes.

Agency Contact: Robert Hettman, ANM-112, Transport Airplane Directorate, Department of Transportation, Federal Aviation Administration, 1601 Lind Avenue, SW, Renton, WA 98057, Phone: 425-227-2683, E-mail: robert.hettman@faa.gov.

RIN: 2120-AJ74

244. +Air Carrier Maintenance Training Program (Section 610 Review)

Legal Authority: 49 U.S.C. 44101; 49 U.S.C. 106(g); 49 U.S.C. 40113; 49 U.S.C. 40119; 49 U.S.C. 41706; 49 U.S.C. 44701; 49 U.S.C. 44702; 49 U.S.C. 44705; 49 U.S.C. 44709 to 47111; 49 U.S.C. 44713; 49 U.S.C. 44715 to 44717; 49 U.S.C. 44722; 49 U.S.C. 46105

Abstract: This proposed rule would require FAA approval of an air carrier maintenance program if they operate aircraft with 10 or more passenger seats. The intent of this proposed rule is to reduce the number of accidents and incidents caused by human error, fatigue, improper maintenance, inspection, or repair practices.

Timetable:

Action | Date | FR Cite
NPRM | 08/00/11 |

Regulatory Flexibility Analysis Required: Yes.

Agency Contact: John J Hiles, Flight Standards Service, Department of Transportation, Federal Aviation Administration, 950 L'Enfant Plaza North, SW, Washington, DC 20591, Phone: 202-385-6421, E-mail: john.j.hiles@faa.gov.

RIN: 2120-AJ79

245. • +Safety Management Systems for Part 121 Certificate Holders (Section 610 Review)

Legal Authority: 49 U.S.C. 106(g); 49 U.S.C. 40113; 49 U.S.C. 40119; 49 U.S.C. 41706; 49 U.S.C. 44101; 49 U.S.C. 44701 to 44702; 49 U.S.C. 44705; 49 U.S.C. 44709 to 44711; 49 U.S.C. 44713; 49 U.S.C. 44716 to 44717; 49 U.S.C. 44722; 49 U.S.C. 46105

Abstract: This rulemaking would require all part 121 air carriers to implement a safety management system (SMS). Congress passed Public Law 111-216 instructing FAA to conduct a rulemaking to require all part 121 air carriers to implement an SMS. The proposed rule must include the following safety management elements: Requirements based on risk management, quality management techniques to develop safety assurance, use of interrelated systems to measure effectiveness of safety measures, and promotion of an organization-wide safety culture. Congress further required that the FAA consider at a minimum each of the following as part of the SMS rulemaking: (1) An Aviation Safety Action Program (ASAP), (2) A Flight Operational Quality Assurance Program (FOQA), (3) A Line Operations Safety Audit, and (4) An Advance Qualification Program.

Timetable:

Action | Date | FR Cite
NPRM | 11/05/10 | 75 FR 68224
NPRM Comment Period End | 02/03/11 |
NPRM Comment Period Extended | 01/31/11 | 76 FR 5296
NPRM Comment Period Extended End | 03/07/11 |
Analyzing Comments | 07/00/11 |

Regulatory Flexibility Analysis Required: Yes.

Agency Contact: Scott VanBuren, Department of Transportation, Federal Aviation Administration, 800 Independence Ave, SW, Washington, DC 20591, Phone: 202 494-8417, E-mail: scott.vanburen@faa.gov.

RIN: 2120-AJ86

246. • +Flight Crewmember Mentoring, Leadership, and Professional Development (HR 5900)

Legal Authority: 49 U.S.C. 44701(a)(5)

Abstract: This rulemaking would amend the regulations for air carrier training programs under part 121. The action is necessary to ensure that air carriers establish or modify training programs that address mentoring, leadership, and professional development of flight crewmembers in part 121 operations. The amendments are intended to contribute significantly to airline safety by reducing aviation accidents.

Timetable:

Action | Date | FR Cite
NPRM | 07/00/11 |

Regulatory Flexibility Analysis Required: Yes.

Agency Contact: Deke Abbott, Department of Transportation, Federal Aviation Administration, 800 Independence Ave., SW, Washington, DC 20591, Phone: 202-267-8266, E-mail: deke.abbott@faa.gov.

RIN: 2120-AJ87

DEPARTMENT OF TRANSPORTATION (DOT)

Federal Aviation Administration (FAA)

Final Rule Stage

247. +Activation of Ice Protection

Legal Authority: 49 U.S.C. 106(g); 49 U.S.C. 40113; 49 U.S.C. 40119; 49 U.S.C. 44101; 49 U.S.C. 44701; 49 U.S.C. 44705; 49 U.S.C. 44709 to 44711; 49 U.S.C. 44713; 49 U.S.C. 44716; 49 U.S.C. 44722; 49 U.S.C. 44901; 49 U.S.C. 44903; 49 U.S.C. 44912; 49 U.S.C. 46105; 49 U.S.C. 44702; 49 U.S.C. 44717; 49 U.S.C. 44904

Abstract: This rulemaking would amend the regulations applicable to operators of certain airplanes used in air carrier service and certificated for flight in icing conditions. The standards would require either the installation of ice detection equipment or changes to the Airplane Flight Manual to ensure timely activation of the airframe ice protection system. This regulation is the result of information gathered from a review of icing accidents and incidents, and it is intended to improve the level of safety when airplanes are operated in icing conditions.

Timetable:

Action | Date | FR Cite
NPRM | 11/23/09 | 74 FR 61055
NPRM Comment Period End | 02/22/10 |
Final Rule | 08/00/11 |

Regulatory Flexibility Analysis Required: Yes.

Agency Contact: Jerry Ostronic, Air Carrier Operations Branch, AFS 220, Department of Transportation, Federal Aviation Administration, 800 Independence Ave., SW, Washington, DC 20591, Phone: 202-267-8166, Fax: 202-267-5229, E-mail: jerry.c.ostronic@faa.gov.

RIN: 2120-AJ43

248. +Air Ambulance and Commercial Helicopter Operations; Safety Initiatives and Miscellaneous Amendments

Legal Authority: 49 U.S.C. 106(g); 49 U.S.C. 1155; 49 U.S.C. 40101 to 40103; 49 U.S.C. 40120; 49 U.S.C. 41706; 49 U.S.C. 41721; 49 U.S.C. 44101; 49 U.S.C. 44106; 49 U.S.C. 44111; 49 U.S.C. 46306; 49 U.S.C. 46315; 49 U.S.C. 46316; 49 U.S.C. 46504; 49 U.S.C. 46506; 49 U.S.C. 46507; 49 U.S.C. 47122; 49 U.S.C. 47508; 49 U.S.C. 47528 to 47531

Abstract: This rulemaking would change equipment and operating requirements for commercial helicopter operations, including many specifically for helicopter air ambulance operations. This rulemaking is necessary to increase crew, passenger, and patient safety. The intended effect is to implement National Transportation Safety Board, Aviation Rulemaking Committee, and internal FAA recommendations.

Timetable:

Action | Date | FR Cite
NPRM | 10/12/10 | 75 FR 62640
NPRM Comment Period End | 01/10/11 |
Final Rule | 05/00/12 |

Regulatory Flexibility Analysis Required: Yes.

Agency Contact: Edwin Miller, Department of Transportation, Federal Aviation Administration, 800 Independence Ave., SW, Washington, DC 20591, Phone: 202-267-7031, E-mail: edwin.miller@faa.gov.

RIN: 2120-AJ53

249. +Flight and Duty Time Limitations and Rest Requirements

Legal Authority: 49 U.S.C. 106(g); 49 U.S.C. 40113; 49 U.S.C. 40119; 49 U.S.C. 41706; 49 U.S.C. 44101; 49 U.S.C. 44701 to 44702; 49 U.S.C. 44705; 49 U.S.C. 44709 to 44710; 49 U.S.C. 44711; 49 U.S.C. 44712; 49 U.S.C. 44713; 49 U.S.C. 44715; 49 U.S.C. 44716; 49 U.S.C. 44717; 49 U.S.C. 44722; 49 U.S.C. 45101 to 45105; 49 U.S.C. 46105

Abstract: This rulemaking would amend existing flight, duty, and rest regulations applicable to certificate holders and their flightcrew members. The new requirements would eliminate the current distinctions between domestic, flag, and supplemental operations. Also, the rulemaking would provide different requirements based on the time of day, whether an individual is acclimated to a new time zone, and the likelihood of being able to sleep under different circumstances. This rulemaking is necessary to improve aviation safety by providing applicable persons with the opportunity for sufficient rest. This rulemaking is related to the following: an NPRM (RIN 2120-AF63), and a Withdrawal (RIN 2120-AI93).

Timetable:

Action | Date | FR Cite
NPRM | 09/14/10 | 75 FR 55852
NPRM Comment Period End | 11/15/10 |
Final Rule | 08/00/11 |

Regulatory Flexibility Analysis Required: Yes.

Agency Contact: Nancy L Claussen, Federal Aviation Administration, Department of Transportation, Federal Aviation Administration, 800 Independence Ave., SW, Washington, DC 20591, Phone: 202-267-8166, E-mail: nancy.claussen@faa.gov.

RIN: 2120-AJ58

BILLING CODE 4910-13-P

DEPARTMENT OF TRANSPORTATION (DOT)

Federal Motor Carrier Safety Administration (FMCSA)

Proposed Rule Stage

250. +Unified Registration System

Legal Authority: Pub. L. 104-88; 109 Stat 803, 888 (1995); 49 U.S.C. 13908; Pub. L. 109-159, sec 4304

Abstract: This rulemaking would replace three current identification and registration systems: the US DOT number identification system, the commercial registration system, and the financial responsibility system, with an online Federal unified registration system (URS). This program would serve as a clearinghouse and depository of information on, and identification of, brokers, freight forwarders, and others required to register with the Department of Transportation. The Agency is revising this rulemaking to address amendments directed by Safe, Accountable, Flexible, Efficient, Transportation Equity Act: A Legacy for Users (SAFETEA-LU). The replacement system for the Single State Registration System, which the ICC Termination Act originally directed be merged under URS, was addressed separately in RIN 2126-AB09. The cargo insurance portion of this rulemaking has been split off into RIN 2126-AB21.

Timetable:

Action | Date | FR Cite
ANPRM | 08/26/96 | 61 FR 43816
ANPRM Comment Period End | 10/25/96 |
NPRM | 05/19/05 | 70 FR 28990
NPRM Comment Period End | 08/17/05 |
Supplemental NPRM | 10/00/11 |

Regulatory Flexibility Analysis Required: Yes.

Agency Contact: Valerie Height, Management Analyst, Department of Transportation, Federal Motor Carrier Safety Administration, Office of Policy Plans and Regulation (MC-PRR), 1200 New Jersey Avenue, SE., Washington, DC 20590, Phone: 202-366-0901, E-mail: valerie.height@dot.gov.

RIN: 2126-AA22

251. +Electronic On-Board Recorders and Hours of Service Supporting Documents

Legal Authority: 49 U.S.C. 31502; 31136(a); Pub. L. 103.311; 49 U.S.C. 31137(a)

Abstract: This rulemaking will consider revisions to RIN 2126-AA89 (Electronic On-Board Recorders for Hours of Service Drivers) to expand the number of motor carriers required to install and operate Electronic On-Board Recorders (EOBRs). FMCSA is consolidating this follow-up to the EOBR rule with the Hours Of Service Of Drivers: Supporting Documents rulemaking for development of a single NPRM in RIN 2126-AB20. In addressing Hours of Service Supporting Documents requirements in this new rulemaking, FMCSA will consider reducing or eliminating current paperwork burdens associated with supporting documents in favor of expanded EOBR use.

On January 15, 2010, the American Trucking Associations (ATA) filed a Petition for a Writ of Mandamus in the United States Court of Appeals for the District of Columbia Circuit (D.C. Cir. No. 10-1009). ATA petitioned the court to direct FMCSA to issue an NPRM on supporting documents in conformance with the requirements set forth in section 113 of the HMTAA within 60 days after the issuance of the writ and a final rule no later than 6 months after the issuance of the NPRM. The court granted the petition for writ of mandamus on September 30, 2010, ordering FMCSA to issue an NPRM on the supporting document regulations by December 30, 2010. At the request of the agency, the DC Circuit extended the deadline to January 31, 2011.

Timetable:

Action | Date | FR Cite
NPRM | 02/01/11 | 76 FR 5537
NPRM Comment Period End | 02/28/11 |
NPRM Comment Period Extended | 03/10/11 | 76 FR 13121
NPRM Extended Comment Period End | 05/23/11 |
Analyzing Comments | 09/00/11 |

Regulatory Flexibility Analysis Required: Yes.

Agency Contact: Deborah M Freund, Senior Transportation Specialist, Department of Transportation, Federal Motor Carrier Safety Administration, 1200 New Jersey Avenue, SE., Washington, DC 20590, Phone: 202 366-5370, E-mail: deborah.freund@dot.gov.

RIN: 2126-AB20

252. +Hours of Service

Legal Authority: 49 U.S.C. 31502(b)

Abstract: This rulemaking would propose changes to the hours of service requirements for drivers operating a commercial motor vehicle transporting property. The requirement for this rulemaking was established on October 26, 2009, when Public Citizen, et al. (Petitioners) and FMCSA entered into a settlement agreement under which Petitioners´ petition for judicial review of the November 19, 2008, Final Rule on drivers´ hours of service will be held in abeyance pending the publication of an NPRM reevaluating the Hours of Service rule.

Timetable:

Action | Date | FR Cite
NPRM | 12/29/10 | 75 FR 82170
NPRM Comment Period End | 02/02/11 |
NPRM; Notice of Availability of Supplemental Documents and Corrections; Extension of Comment Period | 02/16/11 | 76 FR 8990
Extended Comment Period End | 03/02/11 |
NPRM Comment Period Reopened | 05/29/11 | 76 FR 26681
NPRM Comment Period Reopened End | 06/08/11 |

Regulatory Flexibility Analysis Required: Yes.

Agency Contact: Thomas Yager, Driver and Carrier Operations Division, Department of Transportation, Federal Motor Carrier Safety Administration, 1200 New Jersey Avenue, SE., Washington, DC 20590, Phone: 202-366-4325, E-mail: tom.yager@dot.gov.

RIN: 2126-AB26

253. +Drivers of Commercial Vehicles: Restricting the Use of Cellular Phones (Section 610 Review)

Legal Authority: Pub. L. 98-554

Abstract: This rulemaking would restrict the use of mobile telephones while operating a commercial motor vehicle. This rulemaking is in response to Federal Motor Carrier Safety Administration-sponsored studies that analyzed safety incidents and distracted drivers. This rulemaking addresses an item on the National Transportation Safety Board´s “Most Wanted List” of safety recommendations.

Timetable:

Action | Date | FR Cite
NPRM | 12/21/10 | 75 FR 80014
NPRM Comment Period End | 03/21/11 |
Analyzing Comments | 06/00/11 |

Regulatory Flexibility Analysis Required: No.

Agency Contact: Mike Huntley, Chief, Vehicle and Roadside Operations Division, Department of Transportation, Federal Motor Carrier Safety Administration, 1200 New Jersey Ave, SE., Washington, DC 20590, Phone: 202 366-9209, E-mail: michael.huntley@dot.gov.

RIN: 2126-AB29

DEPARTMENT OF TRANSPORTATION (DOT)

Federal Motor Carrier Safety Administration (FMCSA)

Final Rule Stage

254. +National Registry of Certified Medical Examiners

Legal Authority: Pub. L. 109-59 (2005), sec 4116

Abstract: This rulemaking would establish training, testing and certification standards for medical examiners responsible for certifying that interstate commercial motor vehicle drivers meet established physical qualifications standards; provide a database (or National Registry) of medical examiners that meet the prescribed standards for use by motor carriers, drivers, and Federal and State enforcement personnel in determining whether a medical examiner is qualified to conduct examinations of interstate truck and bus drivers; and require medical examiners to transmit electronically to FMCSA the name of the driver and a numerical identifier for each driver that is examined. The rulemaking would also establish the process by which medical examiners that fail to meet or maintain the minimum standards would be removed from the National Registry. This action is in response to section 4116 of Safe, Accountable, Flexible, Efficient, Transportation Equity Act: A Legacy for Users (SAFETEA-LU).

Timetable:

Action | Date | FR Cite
NPRM | 12/01/08 | 73 FR 73129
NPRM Comment Period End | 01/30/09 |
Final Rule | 12/00/11 |

Regulatory Flexibility Analysis Required: Yes.

Agency Contact: Dr. Mary D. Gunnels, Director, Office of Medical Programs, Department of Transportation, Federal Motor Carrier Safety Administration, 1200 New Jersey Avenue, SE., Washington, DC 20590, Phone: 202-366-4001, E-mail: maggi.gunnels@dot.gov.

RIN: 2126-AA97

DEPARTMENT OF TRANSPORTATION (DOT)

Federal Motor Carrier Safety Administration (FMCSA)

Long-Term Actions

255. +Safety Monitoring System and Compliance Initiative for Mexico-Domiciled Motor Carriers Operating in the United States

Legal Authority: Pub. L. 107-87, sec 350; 49 U.S.C. 113; 49 U.S.C. 31136; 49 U.S.C. 31144; 49 U.S.C. 31502; 49 U.S.C. 504; 49 U.S.C. 5113; 49 U.S.C. 521(b)(5)(A)

Abstract: This rule would implement a safety monitoring system and compliance initiative designed to evaluate the continuing safety fitness of all Mexico-domiciled carriers within 18 months after receiving a provisional Certificate of Registration or provisional authority to operate in the United States. It also would establish suspension and revocation procedures for provisional Certificates of Registration and operating authority, and incorporate criteria to be used by FMCSA in evaluating whether Mexico-domiciled carriers exercise basic safety management controls. The interim rule included requirements that were not proposed in the NPRM but which are necessary to comply with the FY-2002 DOT Appropriations Act. On January 16, 2003, the Ninth Circuit Court of Appeals remanded this rule, along with two other NAFTA-related rules, to the agency, requiring a full environmental impact statement and an analysis required by the Clean Air Act. On June 7, 2004, the Supreme Court reversed the Ninth Circuit and remanded the case, holding that FMCSA is not required to prepare the environmental documents. FMCSA originally planned to publish a final rule by November 28, 2003. FMCSA will determine the next steps to be taken after enactment of any pending legislation authorizing cross border trucking.

Timetable:

Action | Date | FR Cite
NPRM | 05/03/01 | 66 FR 22415
NPRM Comment Period End | 07/02/01 |
Interim Final Rule | 03/19/02 | 67 FR 12758
Interim Final Rule Comment Period End | 04/18/02 |
Interim Final Rule Effective | 05/03/02 |
Notice of Intent To Prepare an EIS | 08/26/03 | 68 FR 51322
EIS Public Scoping Meetings | 10/08/03 | 68 FR 58162
Next Action Undetermined |  |

Regulatory Flexibility Analysis Required: Yes.

Agency Contact: Dominick Spataro, Chief, Borders Division, Department of Transportation, Federal Motor Carrier Safety Administration, 1200 New Jersey Ave, SE, Washington, DC 20590, Phone: 202 266-2995, E-mail: dom.spataro@dot.gov.

RIN: 2126-AA35

DEPARTMENT OF TRANSPORTATION (DOT)

Federal Motor Carrier Safety Administration (FMCSA)

Completed Actions

256. +Commercial Driver's License Testing and Commercial Learner's Permit Standards

Legal Authority: Pub. L. 109-347, sec 703; 49 U.S.C. 31102; Pub. L. 105-178, 112 Stat 414 (1998); Pub. L. 99-570, title XII, 100 Stat 3207 (1086); Pub. L. 102-240, sec 4007(a)(1), Stat 1914, 2151; Pub. L. 109-59 (2005), sec 4122; 49 U.S.C. 31136

Abstract: This rulemaking would establish revisions to the commercial driver's license knowledge and skills testing standards as required by section 4019 of TEA-21, implement fraud detection and prevention initiatives at the State driver licensing agencies as required by the SAFE Port Act of 2006, and establish new minimum Federal standards for States to issue commercial learner's permits (CLPs), based in part on the requirements of section 4122 of Safe, Accountable, Flexible, Efficient, Transportation Equity Act: A Legacy for Users (SAFETEA-LU). In addition to ensuring the applicant has the appropriate knowledge and skills to operate a commercial motor vehicle, this rule would establish the minimum information that must be on the CLP document and the electronic driver's record. The rule would also establish maximum issuance and renewal periods, establish a minimum age limit, address issues related to a driver's State of Domicile, and incorporate previous regulatory guidance into the Federal regulations. This rulemaking would also address issues raised in the SAFE Port Act.

Timetable:

Action | Date | FR Cite
NPRM | 04/09/08 | 73 FR 19282
NPRM Comment Period End | 06/09/08 |
NPRM Comment Period Extended | 06/09/08 | 73 FR 32520
NPRM Comment Period End | 07/09/08 |
Final Rule | 05/09/11 | 76 FR 26854
Final Rule Effective | 07/08/11 |

Regulatory Flexibility Analysis Required: Yes.

Agency Contact: Robert Redmond, Senior Transportation Specialist, Department of Transportation, Federal Motor Carrier Safety Administration, 1200 New Jersey Avenue, SE., Washington, DC 20590, Phone: 202-366-5014, E-mail: robert.redmond@dot.gov.

RIN: 2126-AB02

BILLING CODE 4910-EX-P

DEPARTMENT OF TRANSPORTATION (DOT)

National Highway Traffic Safety Administration (NHTSA)

Completed Actions

257. +Ejection Mitigation

Legal Authority: 49 U.S.C. 30111; 49 U.S.C. 30115; 49 U.S.C. 30117; 49 U.S.C. 30166; 49 U.S.C. 322; delegation of authority at 49 CFR 1.50

Abstract: This rulemaking would create a new Federal Motor Vehicle Safety Standard (FMVSS) for reducing occupant ejection. Currently, there are over 52,000 annual ejections in motor vehicle crashes, and over 10,000 ejected fatalities per year. This rulemaking would propose new requirements for reducing occupant ejection through passenger vehicle side widows. The requirement would be an occupant containment requirement on the amount of allowable excursion through passenger vehicle side windows. The Safe, Accountable, Flexible, Efficient, Transportation Equity Act (SAFETEA-LU) requires that “[t]he Secretary shall also initiate a rulemaking proceeding to establish performance standards to reduce complete and partial ejections of vehicle occupants from outboard seating positions. In formulating the standards the Secretary shall consider various ejection mitigation systems. The Secretary shall issue a final rule under this paragraph no later than October 1, 2009.” SAFETEA-LU also requires that, if the Secretary determines that the subject final rule deadline cannot be met, the Secretary shall notify and provide an explanation to the Senate Committee on Commerce, Science and Transportation and the House of Representatives Committee on Energy and Commerce of the delay. On September 24, 2009, the Secretary provided appropriate notification to Congress that the final rule will be delayed until January 31, 2011.

Timetable:

Action | Date | FR Cite
NPRM | 12/02/09 | 74 FR 63180
NPRM Comment Period End | 02/01/10 |
Final Rule | 01/19/11 | 76 FR 3212
Final Action Effective | 03/01/11 |

Regulatory Flexibility Analysis Required: Yes.

Agency Contact: Louis Molino, Safety Standards Engineer, Department of Transportation, National Highway Traffic Safety Administration, 1200 New Jersey Avenue, SE., Washington, DC 20590, Phone: 202-366-1833, Fax: 202-366-4329, E-mail: louis.molino@dot.gov.

RIN: 2127-AK23

BILLING CODE 4910-59-P

DEPARTMENT OF TRANSPORTATION (DOT)

Federal Railroad Administration (FRA)

Proposed Rule Stage

258. +Risk Reduction Program

Legal Authority: Pub. L. 110-432, Div A, 122 Stat 4848 et seq.; Rail Safety Improvement Act of 2008; sec 103, 49 U.S.C. 20156 “Railroad Safety Risk Reduction Program”

Abstract: This rulemaking would consider appropriate contents for Risk Reduction Programs and how they should be implemented and reviewed by FRA.

Timetable:

Action | Date | FR Cite
ANPRM | 12/08/10 | 75 FR 76345
ANPRM Comment Period End | 02/07/11 |
NPRM | 10/00/11 |

Regulatory Flexibility Analysis Required: Yes.

Agency Contact: Kathryn Shelton, Trial Attorney, Department of Transportation, Federal Railroad Administration, 1200 New Jersey Ave., SE., Washington, DC 20590, Phone: 202-493-6063, E-mail: kathryn.shelton@fra.dot.gov.

RIN: 2130-AC11

DEPARTMENT OF TRANSPORTATION (DOT)

Federal Railroad Administration (FRA)

Final Rule Stage

259. +Hours of Service: Passenger Train Employees (Rulemaking Resulting From a Section 610 Review)

Legal Authority: Pub. L. 110-432, Div A, 122 Stat 4848 et seq.; Rail Safety Improvement Act of 2008; sec 108(e) (49 U.S.C. 21109)

Abstract: This rulemaking would establish hours of service requirements for train employees engaged in commuter and intercity passenger rail transport.

Timetable:

Action | Date | FR Cite
NPRM | 03/22/11 | 76 FR 16200
NPRM Comment Period End | 05/23/11 |
Final Rule | 08/00/11 |

Regulatory Flexibility Analysis Required: No.

Agency Contact: Kathryn Shelton, Trial Attorney, Department of Transportation, Federal Railroad Administration, 1200 New Jersey Ave., SE., Washington, DC 20590, Phone: 202-493-6063, E-mail: kathryn.shelton@fra.dot.gov.

RIN: 2130-AC15

BILLING CODE 4910-06-P

DEPARTMENT OF TRANSPORTATION (DOT)

Saint Lawrence Seaway Development Corporation (SLSDC)

Completed Actions

260. • Tariff of Tolls (Completion of a Section 610 Review)

Legal Authority: 33 U.S.C. 983(a); 33 U.S.C. 984(4) as amended and 49 CFR 1.52

Abstract: The Saint Lawrence Seaway Development Corporation (SLSDC) and the St. Lawrence Seaway Management Corporation (SLSMC) of Canada, under international agreement, jointly publish and presently administer the St. Lawrence Seaway Tariff of Tolls in their respective jurisdictions. The Tariff sets forth the level of tolls assessed on all commodities and vessels transiting the facilities operated by the SLSDC and the SLSMC. The SLSDC is revising its regulations to reflect the fees and charges levied by the SLSMC in Canada starting in the 2009 navigation season, which are effective only in Canada.

Timetable:

Action | Date | FR Cite
Final Rule | 03/12/09 | 74 FR 10677
Final Rule Effective | 03/12/09 |
NPRM | 01/28/11 | 76 FR 5104
NPRM Comment Period End | 02/28/11 |
Final Rule | 03/10/11 | 76 FR 13088
Final Rule Effective | 03/20/11 |

Regulatory Flexibility Analysis Required: No.

Agency Contact: Craig H. Middlebrook, Deputy Administrator, Department of Transportation, Saint Lawrence Seaway Development Corporation, 1200 New Jersey Ave., SE., Washington, DC 20590, Phone: 202-366-0091, Fax: 202-366-7147, E-mail: craig.middlebrook@sls.dot.gov.

RIN: 2135-AA29

BILLING CODE 4910-61-P

DEPARTMENT OF TRANSPORTATION (DOT)

Pipeline and Hazardous Materials Safety Administration (PHMSA)

Final Rule Stage

261. +Hazardous Materials: Revisions to Requirements for the Transportation of Lithium Batteries

Legal Authority: 49 U.S.C. 5101 et seq.

Abstract: This rulemaking would amend the Hazardous Materials Regulations to comprehensively address the safe transportation of lithium cells and batteries. The intent of the rulemaking is to strengthen the current regulatory framework by imposing more effective safeguards, including design testing to address risks related to internal short circuits, and enhanced packaging, hazard communication, and operational measures for various types and sizes of lithium batteries in specific transportation contexts. The rulemaking responds to several recommendations issued by the National Transportation Safety Board.

Timetable:

Action | Date | FR Cite
NPRM | 01/11/10 | 75 FR 1302
NPRM Comment Period End | 03/12/10 |
Final Rule | 08/00/11 |

Regulatory Flexibility Analysis Required: Yes.

Agency Contact: Kevin Leary, Transportation Specialist, Department of Transportation, Pipeline and Hazardous Materials Safety Administration, 1200 New Jersey Avenue, SE., Washington, DC 20590, Phone: 202-366-8553, E-mail: kevin.leary@dot.gov.

RIN: 2137-AE44

BILLING CODE 4910-60-P

DEPARTMENT OF TRANSPORTATION (DOT)

Maritime Administration (MARAD)

Long-Term Actions

262. +Cargo Preference—Compromise, Assessment, Mitigation, Settlement and Collection of Civil Penalties

Legal Authority: Pub. L. 110-417

Abstract: This rulemaking would establish part 383 of the Cargo Preference regulations. This rulemaking would cover Public Law 110-417, section 3511 National Defense Authorization Act for FY2009 statutory changes to the cargo preference rules, which have not been substantially revised since 1971. The rulemaking also would include compromise, assessment, mitigation, settlement, and collection of civil penalties.

Timetable: Next Action Undetermined.

Regulatory Flexibility Analysis Required: Yes.

Agency Contact: Christine Gurland, Department of Transportation, Maritime Administration, 1200 New Jersey Ave., SE., Washington, DC 20590, Phone: 202 366-5157, E-mail: christine.gurland@dot.gov.

RIN: 2133-AB75

[FR Doc. 2011-15494 Filed 7-6-11; 8:45 am]

BILLING CODE 4910-81-P